DEPARTMENT OF AGRICULTURE

Forest Service

Pike/San Isabel National Forests; Colorado; Pike/San Isabel National Forests Travel Management Plan

AGENCY: Forest Service, USDA.

ACTION: Notice of Public Scoping Comment Period Extension for Pike/San Isabel National Forests Travel Management Plan.

SUMMARY: A Notice of Intent to Prepare an Environmental Impact Statement (EIS) announcing the Pike/San Isabel National Forests opening of their Travel Management Planning process 45 day public scoping comment period and public scoping meetings was published in the Federal Register on July 25, 2016 and available at the following link: https://www.federalregister.gov/articles/2016/07/25/2016-17498/pikesan-isabel-national-forests-colorado-pikesan-isabel-national-forests-travel-management-plan.

The EIS scoping comment period was scheduled to end on September 8, 2016. This notice extends the comment period an additional 15 days to Friday, September 23, 2016. Project proposed action, purpose and need, alternatives and opportunities to comment are available at http://www.psitravelmanagement.org/.

ADDRESSES: Written comments concerning this notice should be addressed to Travel Management, Pike/San Isabel National Forests, 2840 Kachina Dr., Pueblo, CO 81008. Comments may also be sent via email to comments@psitravelmanagement.org, or via facsimile to 719-553-1440, with “PSI Travel Management” in the subject line. Comments must be readable in Microsoft Word, rich text or pdf formats.

All comments, including names and addresses when provided, are placed in the record and will be available for public inspection and copying. The public may inspect comments after they are received and summarized at the travel planning Web page at: www.psitravelmanagement.org.

FOR FURTHER INFORMATION CONTACT: John Dow, Forest Planner at 719-553-1476. Individuals who use telecommunication devices for the deaf (TDD) may call the Federal Information Relay Service (FIRS) at 1-800-877-8339 between 8 a.m. and 8 p.m., Eastern Time, Monday through Friday.

Responsible Official

The Responsible Official is Erin Connelly, Forest and Grassland Supervisor, Pike and San Isabel National Forests and Cimarron and Comanche National Grasslands, 2840 Kachina Dr., Pueblo CO 81008.

Dated: September 8, 2016.
Erin Connelly,
Forest and Grassland Supervisor, Pike and San Isabel National Forests and Cimarron and Comanche National Grasslands.

[FR Doc. 2016-22185 Filed 9-14-16; 8:45 am]

BILLING CODE 3411-15-P